DEPARTMENT OF TRANSPORTATION

Federal Aviation Administration

Notice of Opportunity for Public Comment on Property Release at Auburn-Opelika Airport, Auburn, AL

AGENCY: Federal Aviation Administration (FAA), DOT.

ACTION: Notice of intent to rule on land release request.

SUMMARY: Under the provisions of Title 49, U.S.C. Section 47153(c), notice is being given that the FAA is considering a request from Auburn University to waive the requirement that a 3.6-acre parcel of surplus property, located at the Auburn-Opelika Airport, be used for aeronautical purposes.

DATES: Comments must be received on or before March 8, 2007.

ADDRESSES: Comments on this notice may be mailed or delivered in triplicate to the FAA at the following address: Jackson Airports District Office, 100 West Cross Street, Suite B, Jackson, MS 39208-2307.

In addition, one copy of any comments submitted to the FAA must be mailed or delivered to Auburn University, at the following address: Mr. William T. Hutto, Jr., Executive Director, Auburn University Aviation, 700 Airport Road, Auburn, AL 36830.

FOR FURTHER INFORMATION CONTACT: Keafur Grimes, Program Manager, Jackson Airports District Office, 100 West Cross Street, Suite B, Jackson, MS 39208-2307, (601) 664-9886. The land release request may be reviewed in person at this same location.

SUPPLEMENTARY INFORMATION: The FAA is reviewing a request by Auburn University to release 3.6 acres of surplus property at the Auburn-Opelika Airport. The property will be swapped for a 3.542-acre parcel that is needed for aeronautical purposes. The appraised values of both properties are the same.

Any person may inspect the request in person at the FAA office listed above under FOR FURTHER INFORMATION CONTACT. In addition, any person may, upon request, inspect the request, notice and other documents germane to the request in person at the Auburn-Opelika Airport.

Dated: Issued in Jackson, Mississippi on January 26, 2007.
Rans D. Black,
Manager, Jackson Airports District Office, Southern Region.

[FR Doc. 07-509 Filed 2-5-07; 8:45 am]

BILLING CODE 4910-13-M